SMALL BUSINESS ADMINISTRATION

SBA Guaranteed Business Loans to Cooperatives

AGENCY: U.S. Small Business Administration.

ACTION: Notice of meeting.

SUMMARY: The Small Business Administration (SBA) Office of Financial Assistance will hold two public forums with members of the general public. The purpose of the public forums is to provide an opportunity for members of the public to present their views to SBA on practical alternatives to satisfying SBA's personal guarantee requirement for small businesses with cooperative ownership. The first public forum will be held in Washington, District of Columbia, and the second public forum will be held in Kansas City, Missouri.

DATES: The Washington, District of Columbia public forum will take place on March 12, 2019, from 11:00 a.m. to 12:30 p.m. Eastern Daylight Saving Time. The Kansas City, Missouri public forum will take place on March 19, 2019, from 11:00 a.m. to 12:30 p.m. Eastern Daylight Saving Time. There will be no telephone call-in available for either public forum.

ADDRESSES: The Washington, District of Columbia public forum will be held at SBA Headquarters, Eisenhower Conference Room, 409 3rd Street SW, Washington, DC 20416. The Kansas City, Missouri public forum will be held at the SBA Kansas City District Office, 1000 Walnut Street, Suite 500, Kansas City, MO 64106. Please note the registration instructions under the Supplementary Information section of this notice.

FOR FURTHER INFORMATION CONTACT: Thomas Heou, SBA Office of Financial Assistance, thomas.heou@sba.gov or (202) 205-9168.

SUPPLEMENTARY INFORMATION: Pursuant to Sec. 862 of the John S. McCain National Defense Authorization Act for Fiscal year 2019 (Pub. L. 115-232), SBA is holding two public forums to discuss practical alternatives to satisfy SBA's personal guarantee requirement on SBA-guaranteed loans to cooperatives.

This is an opportunity for members of the public to present their views to SBA in person on practical alternatives that would satisfy SBA's personal guarantee requirements. No policy recommendations or views will be offered by SBA at the forums.

All interested parties must register in advance to attend. Attendance at each public forum is limited to the first 50 individuals who register to attend.

Participants interested in attending either public forum may register by email to thomas.heou@sba.gov with the email subject line RSVP for [Date] [Location] Public Forum. Registration for each public forum will be on a first come, first serve basis.

Dianna L. Seaborn,
Director, Office of Financial Assistance.

[FR Doc. 2019-03494 Filed 2-27-19; 8:45 am]

BILLING CODE 8025-01-M